DEPARTMENT OF DEFENSE

Department of the Army

[Docket ID: USA-2008-0018]

Privacy Act of 1974; System of Records

AGENCY: Department of the Army, DoD.

ACTION: Notice To Amend a System of Records.

SUMMARY: The Department of the Army is amending a system of records notice in its existing inventory of record systems subject to the Privacy Act of 1974 (5 U.S.C. 552a), as amended.

DATES: This proposed action will be effective without further notice on August 6, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: June 30, 2008.
Patricia L. Toppings,
OSD Federal Register Liaison Officer, Department of Defense.

A0190-40 DAMO

System name:

Offense Reporting System (ORS) (August 21, 2001, 66 FR 43847).

Changes:

Change System Identifier to “A0190-45 OPMG”.

* * * * *

System name:

Delete entry and replace with “Military Police Reporting System (MPRS).

* * * * *

A0190-45 OMPG

System name:

Military Police Reporting System (MPRS).

System location:

Decentralized to Army installations which created the Military Police Report. Official mailing addresses are published as an appendix to the Army's compilation of systems of records notices. The official copy of the military police report and other law enforcement related documents may be sent to the U.S. Army Crime Records Center, 6010 6th Street, Fort Belvoir, VA 22060-5585. Automated records of the Military Police Report are maintained in the Offense Reporting System (ORS) ORS-2 program managed by the Deputy Chief of Staff for Operations and Plans, 400 Army Pentagon, Washington, DC 20310-0400.

Categories of individuals covered by the system:

Any individual who is the subject, victim, complainant, witness, or suspect in a criminal, civil, or traffic offense.

Categories of records in the system:

Criminal information or investigative files involving the Army which may consist of military police reports or similar reports containing investigative data, supporting or sworn statements, affidavits, provisional passes, receipts for prisoners or detained persons, reports of action taken, and disposition of cases.

Authority for maintenance of the system:

10 U.S.C. 3013, Secretary of the Army; 18 U.S.C. 44, Brady Handgun Violence Prevention Act; 28 U.S.C. 534, Uniform Crime Reporting Act; 42 U.S.C. 10606, Victims Rights and Restitution Act of 1990; DoD Directive 10310.1, Victim and Witness Assistance; Army Regulation 190-45, Military Police Law Enforcement Reporting, and E.O. 9397 (SSN).

Purpose(s):

To provide detailed information necessary for Army officials and commanders to discharge their responsibilities for maintaining discipline, law, and order through investigation of complaints and incidents and possible criminal prosecution, civil court action, or regulatory order.

This system contains information which may be used, as permitted by the Privacy Act and other pertinent laws, for employee personnel actions and determinations concerning, but not limited to security clearances, recruitment, retention, and placement. Statistical data are derived from individual reports and stored in automated media at major Army commands and Headquarters, Department of the Army, for the purposes of (1) developing crime trends by major categories (e.g., crimes against persons, drug crimes, crimes against property, fraud crimes, and other offenses); (2) developing law enforcement and crime prevention programs to reduce or deter crime within Army communities; and (3) to satisfy statutory reporting requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to federal, state, and local (including Foreign Government) agencies for investigation and prosecution when cases are either within their jurisdiction or when concurrent jurisdiction applies. These include: Federal Bureau of Investigation, Drug Enforcement Administration, U.S. Customs Service, Bureau of Alcohol, Tobacco and Firearms, U.S. District Courts, U.S. Magistrates.

To victims and witnesses of a crime for purposes of providing information, consistent with the requirements of the Victim and Witness Assistance Program, regarding the investigation and disposition of an offense.

The DoD `Blanket Routine Uses' set forth at the beginning of the Army's compilation of systems of records notices also apply to this system.

Policies and practices for storing, retrieving, accessing, retaining, and disposing of records in the system:

Storage:

Paper records in file folders and electronic storage media.

Retrievability:

By individual's name, date of birth, Social Security Number, and case number.

Safeguards:

Access to information is controlled; limited to authorized personnel having official need therefore. Terminals are under supervision control from unauthorized use. Access to information is also controlled by a system of assigned passwords for authorized users of terminals.

Retention and disposal:

Criminal investigations data/information is sent to the Crime Records Center where it is retained 40 years after date of final report, all other data/information in the file is destroyed after 5 years.

System manager(s) and address:

Deputy Chief of Staff for Operations and Plans, 400 Army Pentagon, Washington, DC 20310-0400.

Notification procedure:

Individuals seeking to determine whether information about themselves is contained in this system should address written inquiries to the Commander, U.S. Army Crime Records Center, 6010 6th Street, Fort Belvoir, VA 22060-5585.

Individual should provide the full name, Social Security Number, date and place of the incident.

Record access procedures:

Individuals seeking access to information about themselves contained in this system should address written inquiries to the Commander, U.S. Army Crime Records Center, 6010 6th Street, Fort Belvoir, VA 22060-5585.

Individual should provide the full name, Social Security Number, date and place of the incident.

Contesting record procedures:

The Army's rules for accessing records, and for contesting contents and appealing initial agency determinations are contained in Army Regulation 340-21; 32 CFR part 505; or may be obtained from the system manager.

Record source categories:

From the individual; witnesses; victims; Military Police and/or U.S. Army Criminal Investigation Command special agents; informants; investigative and law enforcement persons of Federal, state, local and foreign government agencies; any source that may supply pertinent information.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. E8-15258 Filed 7-3-08; 8:45 am]

BILLING CODE 5001-06-P